DEPARTMENT OF HOMELAND SECURITY

Coast Guard

33 CFR Part 117

[Docket No. USCG-2018-0408]

Drawbridge Operation Regulation; Gulf Intracoastal Waterway, Harvey, LA

AGENCY: Coast Guard, DHS.

ACTION: Notice of deviation from drawbridge regulations.

SUMMARY: The Coast Guard has issued a temporary deviation from the operating schedule that governs the Lapalco Boulevard Bridge, Harvey Canal Route, mile 2.8, over the Gulf Intracoastal Waterway, in Harvey, LA. The deviation is necessary to accommodate maintenance and replacement of various bridge components. This deviation allows the bridge to remain in the closed-to-navigation position for two separate seven-day periods.

DATES: This deviation is effective from 6 a.m. on July 23, 2018 through 6 a.m. on August 13, 2018.

ADDRESSES: The docket for this deviation, USCG-2018-0408 is available at http://www.regulations.gov. Type the docket number in the “SEARCH” box and click “SEARCH.” Click on Open Docket Folder on the line associated with this deviation.

FOR FURTHER INFORMATION CONTACT: If you have questions on this temporary deviation, call or email Ms. Donna Gagliano, Bridge Branch Office, Eighth District, U.S. Coast Guard; telephone 504-671-2128, email Donna.Gagliano@uscg.mil.

SUPPLEMENTARY INFORMATION: The owner of the bridge, Jefferson Parish, has requested a temporary deviation from the operating schedule for the Lapalco Boulevard Bridge, Harvey Canal Route, mile 2.8 over the Gulf Intracoastal Waterway in Harvey, LA to remain in the closed-to-navigation position to marine traffic for maintenance and component replacement activities over two separate seven-day periods. The bascule span drawbridge has a vertical clearance of 45 feet above mean high water in the closed-to-navigation position.

The current operating schedule is set out in 33 CFR 117.451(a). This temporary deviation allows the bridge to remain in the closed-to-navigation position from 6 a.m. on July 23, 2018 through 6 a.m. on July 30, 2018, and from 6 a.m. on August 6, 2018 through 6 a.m. on August 13, 2018. This temporary deviation is necessary in order to replace the motors and brakes necessary for the operation of the bridge.

Navigation on the waterway consists mainly of tugs with tows, with some commercial fishing vessels and recreational craft. Vessels able to pass through the bridge in the closed to navigation position may do so at any time. The bridge will not be able to open for emergencies during these repairs. However, an alternate route is available via the Gulf Intracoastal Waterway Algiers Alternate Route. The Coast Guard will also inform the waterway users of the change in operating schedule for the bridge through our Local Notice and Broadcast Notices to Mariners so that vessel operators can arrange their transits to minimize any impact caused by the temporary deviation.

In accordance with 33 CFR 117.35(e), the drawbridge must return to its regular operating schedule immediately at the end of each of the effective time periods. This deviation from the operating regulations is authorized under 33 CFR 117.35.

Dated: June 19, 2018.
Douglas A. Blakemore,
Bridge Administrator, U.S. Coast Guard Eighth District.

[FR Doc. 2018-13517 Filed 6-22-18; 8:45 am]

BILLING CODE 9110-04-P